ENVIRONMENTAL PROTECTION AGENCY

[ER-FRL-6623-8]

Environmental Impact Statements; Notice of Availability

Responsible Agency: Office of Federal Activities, General Information (202) 564-7167 or www.epa.gov/oeca/ofa.

Weekly receipt of Environmental Impact Statements filed November 12, 2001 through November 16, 2001 pursuant to 40 CFR 1506.9.

EIS No. 010433, Final EIS, AFS, CO, Nucla-Telluride Transmission Line Project, Permit Approval and Funding for Construction and Operation of a 115 kV Transmission Line between the Nucla Substation in Montrose County and either the Telluride or Sunshine Substations in San Miguel County, CO, Wait Period Ends: December 24, 2001, Contact: Steve Wells (970) 327-4261.

EIS No. 010434, Draft EIS, COE, ID, WA, McNary Reservoir and Lower Snake River Reservoirs, To Maintain the Authorized Navigation Channel, Dredged Material Management Plan (DMMP), Walla Walla District, Lower Snake River and Columbia River, ID and WA, Comment Period Ends: January 07, 2002, Contact: Jack Sand (509) 527-7287.

EIS No. 010435, Final EIS, COE, LA, West Bay Sediment Diversion Channel Project, Construction, Funding, Plaquemines Parish, LA, Wait Period Ends: December 24, 2001, Contact: Sean P. Mickal (504) 862-2319.

EIS No. 010436, Final EIS, FRC, MA, CT, Phase III/Hubline Project, Construction and Operation a Natural Gas Pipeline, Maritimes and Northeast Pipeline (Docket No. CPO1-4-000), Algonquin Gas Transmission (Docket No. CP01-5-000) and Texas Eastern Transmission (Docket No. CP01-8-000), MA and CT, Wait Period Ends: December 24, 2001, Contact: David P. Boergers (202) 208-1371.

EIS No. 010437, Final EIS, AFS, OR, Anthony Lakes Mountain Resort Master Development Plan, Upgrading and Additional Development, Approval, Baker Ranger District, Wallowa-Whitman National Forest, Grant, Union and Baker Counties, OR, Wait Period Ends: December 24, 2001, Contact: Charles L. Ernst (541) 523-1901.

EIS No. 010438, Final EIS, FHW, IL, Fox River Bridge Crossings, To Construct up to Five-Bridges across the Fox River, NPDES Permit, COE Section 10 and 404 Permits, Kane County, IL, Wait Period Ends: December 24, 2001, Contact: Norman R. Stoner (217) 492-4640.

EIS No. 010439, Final Supplement EIS, NOA, AK, Steller Sea Lion Protection Measures in the Alaska Groundfish Fisheries, Fishery Management Plans for Groundfish of the Gulf of Alaska and the Groundfish Fishery of the Bering Sea and Aleutian Islands Area, AK, Wait Period Ends: December 24, 2001, Contact: James W. Balsiger (907) 586-7221.

EIS No. 010440, Final EIS, FRC, WA, Cowlitz River Hydroelectric Project (No. 2016-044), Relicensing of the Existing 462-megawatt, Cowlitz River, City of Tacoma, WA, Wait Period Ends: December 24, 2001, Contact: David Turner (202) 219-2844.

EIS No. 010441, Final EIS, EPA, FL, Tampa Bay Regional Reservoir Project, Construction and Operation an 1100-acre Reservoir Facility, Hillsborough River, Tampa Bypass Canal and Alafia River, Hillsborough County, FL, Wait Period Ends: December 24, 2001, Contact: John Hamilton (404) 562-9617.

EIS No. 010442, Final EIS, COE, SD, Title VI Land Transfer South Dakota, Transfer of 91,178 Acres of Land at Lake Oahe, Lake Sharp, Lake Francise Case, and Lewis & Clark Lake, from the US Army Corps of Engineers (USACE) to the South Dakota Department of Game, Fish and Parks (SDGFP), SD, Wait Period Ends: December 24, 2001, Contact: Patty Freeman (402) 221-3803.

Amended Notices

EIS No. 010326, Draft EIS, APH, Programmatic—EIS Rangeland Grasshopper and Mormon Cricket Suppression Program, Authorization, Funding and Implementation in 17 Western States, AZ, CA, CO, ID, KS, MT, NB, NV, NM, ND, OK, OR, SD, TX, UT, WA and WY, Comment Period Ends: November 28, 2001, Contact: Charles L. Brown (301) 734-8247. Revision of FR Notice Published on 08/31/2001: CEQ Review Period Ending on 11/14/2001 has been Extended to 11/28/2001.

EIS No. 010367, Draft EIS, BIA, CA, NV, Truckee River Water Quality Settlement Agreement-Federal Water Right Acquisition, Implementation, Truckee River, Placer County, CA and Washoe, Storey and Lyon Counties, NV, Comment Period Ends: December 05, 2001, Contact: Tom Strekal (775) 887-3500. Published FR-10-05-01—Correction to Comment Period from 12-03-2001 to 12-05-2001.

EIS No. 010422, Draft Supplement, GSA, CA, Los Angeles Federal Building—U.S. Courthouse, Construction of a New Courthouse in the Civic Center, Additional Information, City of Los Angeles, Los Angeles County, CA, Comment Period Ends: December 31, 2001, Contact: Javad Soltani (415) 522-3493. Published FR 11-16-01 Correction to Document Status from Draft to Draft Supplement.

EIS No. 010423, Draft EIS, UAF, OK, Altus Air Force Base (AFB), Proposes Airfield Repairs, Improvements, and Adjustments to Aircrew Training, Install an Instrument Landing System (ILS) and a Microwave Landing System (MLS), Jackson County, OK, Comment Period Ends: December 31, 2001, Contact: Ron Voorhees (210) 652-3656. Published FR-09-21-01—Correction to State from IN to IL.

EIS No. 010426, Draft EIS, DOE, KY, Kentucky Pioneer Integrated Gasification Combined Cycle Demonstration Project, Constructing and Operating a 540 megawatt-electric Plant, Clean Coal Technology Program, Clark County, KY, Comment Period Ends: January 04, 2002, Contact: Roy Spears (304) 285-5460. Published FR—11-16-01 Correction to Comment Period from 12-31-2001 to 01-04-2002 also correction to Contact Person Phone # (304) 285-5460.

Dated: November 19, 2001.
Joseph C. Montgomery,
Director, NEPA Compliance Division, Office of Federal Activities.

[FR Doc. 01-29275 Filed 11-21-01; 8:45 am]

BILLING CODE 6560-60-U